DEPARTMENT OF TRANSPORTATION

Federal Highway Administration

Environmental Impact Statement: Ouachita Parish, Louisiana

AGENCY: Federal Highway Administration (FHWA), DOT.

ACTION: Notice of Intent.

SUMMARY: The FHWA is issuing this notice to advise the public that an Environmental Impact Statement will be prepared for a proposed highway project in Ouachita Parish, Louisiana.

FOR FURTHER INFORMATION CONTACT: William C. Farr, Program Operations Manager, Federal Highway Administration, 5304 Flanders Drive, Suite A, Baton Rouge, Louisiana 70808, Telephone: (225) 757-7615, Facsimile: (225) 757-7601.

SUPPLEMENTARY INFORMATION: The FHWA, in cooperation with the Louisiana Department of Transportation and Development (LDOTD), will prepare an Environmental Impact Statement (EIS) on a proposal to construct a new highway facility on an alignment to be determined. The proposed project, known locally as the Kansas Lane Connector, is generally located in the northeast quadrant of Monroe, Louisiana. The roadway includes several alternates based on the number of bridges needed for various alignments. The approximate length of the project is 4.3 kilometers (2.7 miles). Final length will depend on the alternative selected.

The proposed improvements would improve the connectivity, travel time, and safety of the area and increase regional access to the area, including the University of Louisiana at Monroe for persons, businesses and industry in the region.

The western terminus of the proposed project will be in the vicinity of the junction of U.S. Highway 165 and Forsythe Avenue and the eastern terminus will be in the vicinity of the junction of U.S. Highway 80 and Kansas Lane.

Alternatives to be considered are:

(1) The “Do-nothing” Alternative, where the current and existing highways will be repaired and maintained in their present location, capacity, and character.

(2) The “Build” Alternative, considering several different alignments, roadway type and control of access.

An agency scoping meeting will be held at a time and place to be determined at a later date. Letters describing the proposed action and soliciting comments will be sent to appropriate Federal, state, and local agencies and to private organizations, including conservation groups and groups of individuals who have expressed interest in the project in the past. At least one public informational meeting will be held in the project area that will be affected. In addition, a Public Hearing will be held. Public notice will be given of the time and place of the public informational meeting(s) and the Public Hearing. The draft EIS will be available for public and agency review and comment prior to the Public Hearing.

To ensure that the full range of issues related to this proposed action are addressed, and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program)

William A. Sussmann,
Division Administrator, FHWA, Baton Rouge, Louisiana.

[FR Doc. 00-16006 Filed 6-23-00; 8:45 am]

BILLING CODE 4910-22-M